COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add to the Procurement List services to be furnished by nonprofit agencies employing persons who are blind or have other severe disabilities, and to delete products and a service previously furnished by such agencies.

Comments Must Be Received on or Before: May 18, 2008.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C. 47(a) (2) and 41 CFR 51-2.3. Its purpose is to provide interested persons an opportunity to submit comments on the proposed actions.

Additions

If the Committee approves the proposed additions, the entities of the Federal Government identified in this notice for service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Base Supply Center & HAZMAT, Naval Air Station—Joint Reserve Base (NASJRB), New Orleans, LA.

NPA: Raleigh Lions Clinic for the Blind, Inc., Raleigh, NC.

Contracting Activity: Fleet and Industrial Supply Center—Jacksonville, Jacksonville, FL.

Service Type/Location: Custodial Services, Fort Sam Houston, Camp Bullis, Building 6116, San Antonio, TX.

NPA: Training, Rehabilitation, & Development Institute, Inc., San Antonio, TX.

Contracting Activity: Southern Region Contracting Center-West, Fort Sam Houston, TX.

Service Type/Locations: Mailroom Operations, Immigration & Customs Enforcement, 1100 Center Parkway (Camp Creek Business Center), 180 Spring Street, 2150 Park Lake Drive, Atlanta, GA.

NPA: WORKTEC, Jonesboro, GA.

Contracting Activity: U.S. Department of Homeland Security, Immigration and Customs Enforcement, Washington, DC.

Deletions

Regulatory Flexibility Act Certification

I certify that the following action will not have a significant impact on a substantial number of small entities. The major factors considered for this certification were:

1. If approved, the action should not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

Comments on this certification are invited. Commenters should identify the statement(s) underlying the certification on which they are providing additional information.

End of Certification

The following products and service are proposed for deletion from the Procurement List:

Products

Frame, Transparency Mounting

NSN: 6750-00-378-6825.

NPA: Industries of the Blind, Inc., Greensboro, NC.

Contracting Activity: General Services Administration, Office and Photographic Equipment Division.

Hydration On-the-Move System

NSN: 8465-00-NIB-0041—Canteen, One Quart Flexible—Echo.

NSN: 8465-00-NIB-0097—Sierra Black.

NPA: The Lighthouse for the Blind, Inc. (Seattle Lighthouse), Seattle, WA.

Computer Accessories

NSN: 7045-01-483-7832—CD Organizer.

NSN: 7045-01-483-7837—Ergo Gel Keyboard and Monitor Platform.

NPA: Wiscraft Inc.—Wisconsin Enterprises for the Blind, Milwaukee, WI.

Contracting Activity: General Services Administration, Office Supplies & Paper Products Acquisition Ctr, New York, NY.

Service

Service Type/Location: Janitorial/Custodial, Social Security Administration, 142 Auburn Street, Pontiac, MI.

NPA: New Horizons Rehabilitation Services, Inc., Auburn Hills, MI.

Contracting Activity: General Services Administration, Region 5, Chicago, IL.

Patrick Rowe,
Deputy Executive Director.

[FR Doc. E8-8366 Filed 4-17-08; 8:45 am]

BILLING CODE 6353-01-P